DEPARTMENT OF TRANSPORTATION

Federal Aviation Administration

RTCA Special Committee 186; Automatic Dependent Surveillance—Broadcast (ADS-B)

Pursuant to section 10(a)(2) of the Federal Advisory Committee Act (Pub. L. 92-463, 5 U.S.C., Appendix 2), notice is hereby given for Special Committee (SC)-186 meeting to be held June 19-23, 2000, starting at 9:00 a.m. The meeting will be held at RTCA, 1140 Connecticut Avenue, NW., Suite 1020, Washington, DC 20036.

The agenda will include: (1) Welcome and Introductory Remarks; (2) Review of Meeting Agenda; (3) Review and Approval of the Previous Meeting Minutes; (4) Review SC-186 Activity Reports for the following Working Groups (WG): (a) WG-1, Operations & Implementation; (b) WG-2, Traffic Information Services—Broadcast (TIS-B) which is a new activity to develop Minimum Aviation System Performance Standards for TIS-B, (c) WG-3, 1090 MHz Minimum Operational Performance Standards (MOPS); (d) WG-4, Application Technical Requirements; (5) Free Flight Select Committee Surveillance Working Group Update; (6) Review EUROCARE WG-51 Reports for Subgroups 1 and 2; (7) Review/Approve MOPS for 1090 Mhz Automatic Dependant Surveillance—Broadcast (RTCA Paper No. 145-00/SC186-152); (8) Review/Approve MOPS for Cockpit Display of Traffic Information (RTCA Paper NO. 146-00/SC186-153); (9) Review Revision to Terms of Reference for SC-186; (10) Review Action Items/Work Program; (12) Date and Location of Next Meeting; (13) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax). Members of the public may present a written statement to the committee at any time.

Issued in Washington, DC, on May 25, 2000.
Janice L. Peters,
Designated Official.

[FR Doc. 00-13836 Filed 6-1-00; 8:45 am]

BILLING CODE 4910-13-M